COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes product(s) from the Procurement List that were be furnished by nonprofit agencies employing persons who are blind or have other severe disabilities.

DATES: Date added to and deleted from the Procurement List: June 16, 2024.

ADDRESSES: Committee for Purchase From People Who Are Blind or Severely Disabled, 355 E Street SW, Suite 325, Washington, DC 20064.

FOR FURTHER INFORMATION CONTACT: For further information or to submit comments contact: Michael R. Jurkowski, telephone: (703) 489-1322, or email CMTEFedReg@AbilityOne.gov.

SUPPLEMENTARY INFORMATION:

Deletions

On 4/12/2024 (89 FR 25865), the Committee for Purchase From People Who Are Blind or Severely Disabled published notice of proposed deletions from the Procurement List. This notice is published pursuant to 41 U.S.C. 8503 (a)(2) and 41 CFR 51-2.3.

After consideration of the relevant matter presented, the Committee has determined that the product(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) to the Government.

3. There are no known regulatory alternatives which would accomplish the objectives of the Javits-Wagner-O'Day Act (41 U.S.C. 8501-8506) in connection with the product(s) deleted from the Procurement List.

End of Certification

Accordingly, the following product(s) are deleted from the Procurement List:

Product(s)

NSN(s)—Product Name(s):

7530-01-517-2729—Folder, File, Pressboard, Expanding, Two 1½″ Fasteners, Green, Letter

7530-01-517-2730—Folder, File, Pressboard, Expanding, One 1½″ Fastener, Green, Letter

7530-01-484-1865—Folder, File, Pressboard, Expanding, One 1½″ Fastener, Green, Legal

Authorized Source of Supply: LC Industries, Inc., Durham, NC

Contracting Activity: GSA/FAS ADMIN SVCS ACQUISITION BR(2, NEW YORK, NY

NSN(s)—Product Name(s):

8520-01-555-2891—Cleaner, Hand, Biorenewable, Waterless, Pumice, 1 gl

8520-01-555-2902—Cleaner, Hand, Biorenewable, Waterless, 1 gl

Authorized Source of Supply: Outlook Nebraska, Inc, Omaha, NE

Contracting Activity: GSA/FSS GREATER SOUTHWEST ACQUISITI, FORT WORTH, TX

NSN(s)—Product Name(s):

8520-01-555-2891—Cleaner, Hand, Biorenewable, Waterless, Pumice, 1 gl

8520-01-555-2902—Cleaner, Hand, Biorenewable, Waterless, 1 gl

Authorized Source of Supply: VisionCorps, Lancaster, PA

Contracting Activity: GSA/FSS GREATER SOUTHWEST ACQUISITI, FORT WORTH, TX

NSN(s)—Product Name(s):

7530-00-NIB-0675—Classification Folder, Pressboard, 4 Part, 1 Divider, Legal Size, Dark Green

7530-00-NIB-0676—Classification Folder, Pressboard, 4 Part, 1 Divider, Legal Size, Yellow

7530-00-286-7287—Folder, File, Pressboard, ⅕ Cut Tab, Light Green, Legal

7530-00-926-8984—Folder, File, Pressboard, End or Side Self Tab, 1″ Fastener, Light Green, Legal

7530-00-985-7009—Folder, File, Pressboard, 1″ Capacity, Straight Cut Tab, Red, Letter

Authorized Source of Supply: Georgia Industries for the Blind, Bainbridge, GA

Contracting Activity: GSA/FAS ADMIN SVCS ACQUISITION BR(2, NEW YORK, NY

NSN(s)—Product Name(s):

2815-01-464-5543—Parts Kit, Piston Assembly, HMMWV Engine

Authorized Source of Supply: Georgia Industries for the Blind, Bainbridge, GA

Contracting Activity: DLA LAND AND MARITIME, COLUMBUS, OH

Michael R. Jurkowski,
Director, Business Operations.

[FR Doc. 2024-10894 Filed 5-16-24; 8:45 am]

BILLING CODE 6353-01-P